DEPARTMENT OF EDUCATION

Notice of Proposed Information Collection Requests

AGENCY: Department of Education.

ACTION: Notice of Proposed Information Collection Requests.

SUMMARY: The Director, Information Collection Clearance Division, Regulatory Information Management Services, Office of Management, invites comments on the proposed information collection requests as required by the Paperwork Reduction Act of 1995.

DATES: An emergency review has been requested in accordance with the Act (44 U.S.C. Chapter 3507 (j)), due to unanticipated events and the enactment of H.R. 1586, which authorizes the Education Jobs Fund Program. The Act requires awards to be made within a certain period from the date of enactment as specified under the “Additional Information” section. Approval by the Office of Management and Budget (OMB) has been requested by August 12, 2010.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov.

SUPPLEMENTARY INFORMATION: Section 3506 of the Paperwork Reduction Act of 1995 (44 U.S.C. 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Director, Information Collection Clearance Division, Regulatory Information Management Services, Office of Management, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment.

The Department of Education is especially interested in public comment addressing the following issues: (1) Is this collection necessary to the proper functions of the Department; (2) will this information be processed and used in a timely manner, (3) is the estimate of burden accurate; (4) how might the Department enhance the quality, utility, and clarity of the information to be collected, and (5) how might the Department minimize the burden of this collection on respondents, including through the use of information technology.

Dated: August 10, 2010.
Darrin A. King,
Director, Information Collection Clearance Division, Regulatory Information Management Services, Office of Management.

Office of Elementary and Secondary Education

Type of Review: New.

Title: Education Jobs Fund Program Application.

OMB #: 1810-NEW.

Agency Form(s) #: N/A.

Abstract: On August 10, 2010, President Barack Obama signed H.R. 1586, which authorizes the Education Jobs Fund Program. This economic recovery bill provides an investment in education to retain or create education jobs. It provides needed aid to school districts for the support of early childhood, elementary and secondary education. Under the Education Jobs Fund (Education Jobs), the U.S. Department of Education (Department) will award grants to Governors according to a formula based on their relative population of individuals aged 5 to 24 (sixty-one percent) and based on relative total population (thirty-nine percent).

Additional Information: In order to provide immediate assistance to help alleviate the substantial budget shortfalls that school districts are facing, the Department is committed to providing the Education Jobs allocations within a very short timeframe, necessitating emergency clearance of the Education Jobs program application. Specifically, the statute directs the Department to award each State the total amount that it is to receive within 45 days after the date of the enactment of the Act, if the governor submits an approvable application within 30 days after the date of enactment.

Frequency: One time.

Affected Public: State, Local, or Tribal Government, State Educational Agencies (SEAs) or Local Educational Agencies (LEAs).

Reporting and Recordkeeping Hour Burden:

Responses: 51.

Burden Hours: 107.

Requests for copies of the proposed information collection request may be accessed from http://edicsweb.ed.gov, by selecting the “Browse Pending Collections” link and by clicking on link number 4377. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. 2010-20049 Filed 8-11-10; 8:45 am]

BILLING CODE 4000-01-P